DEPARTMENT OF ENERGY

Federal Energy Regulatory Commission

[Docket Nos. CP04-411-000 and CP04-416-000]

Crown Landing LLC and Texas Eastern Transmission, LP; Notice of Availability of the Draft General Conformity Determination for the Proposed Crown Landing LNG and Logan Lateral Projects

August 26, 2005.

The staff of the Federal Energy Regulatory Commission (FERC or Commission) has prepared this Draft General Conformity Determination to assess the potential air quality impacts associated with the construction and operation of a liquefied natural gas (LNG) import terminal proposed by Crown Landing LLC and natural gas pipeline facilities proposed by Texas Eastern Transmission, L.P., referred to as the Crown Landing LNG and Logan Lateral Projects, in the above-referenced dockets.

This Draft General Conformity Determination was prepared to satisfy the requirements of the Clean Air Act.

Comment Procedures

Any person wishing to comment on this Draft General Conformity Determination may do so. To ensure consideration of your comments in the Final General Conformity Determination, it is important that we receive your comments before the date specified below. The Final General Conformity Determination will be included in the Final Environmental Impact Statement for the projects. Please carefully follow these instructions to ensure that your comments are received in time and properly recorded:

• Send an original and two copies of your comments to: Magalie R. Salas, Secretary, Federal Energy Regulatory Commission, 888 First St., NE., Room 1A, Washington, DC 20426;

• Reference Docket Nos. CP04-411-000 and CP04-416-000;

• Label one copy of your comments for the attention of Gas Branch 1; PJ-11.1; and;

• Mail your comments so that they will be received in Washington, DC on or before September 26, 2005.

Please note that we are continuing to experience delays in mail deliveries from the U.S. Postal Service. The Commission strongly encourages electronic filing of any comments on this Draft General Conformity Determination. See 18 CFR 385.2001(a)(1)(iii) and the instructions on the Commission's Web site at http://www.ferc.gov under the “e-Filing” link and the link to the User's Guide. Before you can file comments you will need to create a free account which can be created online.

Additional information about the project is available from the Commission's Office of External Affairs, at 1-866-208-FERC (3372) or on the FERC Internet Web site (www.ferc.gov) using the “eLibrary” link; select “General Search” from the eLibrary menu, enter the selected date range and “Docket Number” (i.e., CP04-411) and follow the instructions. Searches may also be done using the phrase “Crown Landing” in the “Text Search” field. For assistance with eLibrary, the eLibrary helpline can be reached at 1-866-208-3676, TTY (202) 502-8659 or at ferconlinesupport@ferc.gov. The eLibrary link on the FERC Internet Web site also provides access to the texts of formal documents issued by the Commission, such as orders, notices, and rulemakings.

Magalie R. Salas,
Secretary.

[FR Doc. E5-4821 Filed 9-1-05; 8:45 am]

BILLING CODE 6717-01-P